DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 12, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: 7 CFR 4280-A, Rural Economic Development Loan and Grant Program.

OMB Control Number: 0570-0035.

Summary of Collection: The information collected is necessary to implement section 313(b) (2) of the Rural Electrification Act of 1936 (7 U.S.C. 940(c)) that established a loan and grant program. Rural Business Service (RBS) mission is to improve the quality of life in rural America by financing community facilities and businesses, providing technical assistance and creating effective strategies for rural development. Under this program, zero interest loans and grants are provided to electric and telecommunications utilities that have borrowed funds from RUS. The purpose of the program is to encourage these electric and telecommunications utilities to promote rural economic development and job creation projects such as business start-up costs, business expansion, community development, and business incubator projects.

Need and Use of the Information: The various forms and narrative requirements are no more than what a prudent commercial lender would require in the private sector if they processed an application without governmental assistance. The information requested is necessary and vital in order for RBS to be able to make prudent and financial analysis decisions. RBS has reviewed the program needs versus the burden placed on the public and is of the opinion that the program is necessary and will be beneficial to all parties involved. RBS, through its respective Program Management Division in Washington, DC, and its staff located in 47 State Offices throughout the United States, will be the primary user of the information collected. It is projected that 120 applicants per year will apply and be approved for a Rural Economic Development loan or grant. The information collected will be used to evaluate applications for funding consideration, conduct an environmental review, prepare legal documents, receive loan payments, oversee the operation of a revolving loan fund, monitor the use of RBS funds, and enforce other Government requirements such as compliance with civil rights regulations.

Description of Respondents: Not-for-profit Institutions; Business or other for-profit;

Number of Respondents: 120.

Frequency of Responses: Reporting: On Occasion, Annually.

Total Burden Hours: 4,742.

Rural Business-Cooperative Service

Title: Rural Micro-Entrepreneur Assistance Program.

OMB Control Number: 0570-0062.

Summary of Collection: The Rural Microentrepreneur Assistance Program (RMAP), authorized under section 6022 of the Food, Conservation, and Energy Act of 2008 (2008 Farm Bill), which amends section subtitle D of the Consolidated Farm and Rural Development Act of 2008 (CON Act) provides rural microentrepreneurs with the skills necessary to establish new rural microenterprises, to provide continuing technical and financial assistance related to the successful operation of rural microenterprises, and to assist with the cost of providing other activities and services related to the successful operation of rural microenterprise development organizations (MDOs) and rural microenterprises. The Secretary makes direct loans to MDOs (MDOs that are participating in the program are referred to as “microlenders”) for the purpose of capitalizing microloan revolving funds to provide fixed interest rate business loans of $50,000 or less to microentrepreneurs, as defined in the 2008 Farm Bill.

Need and Use of the Information: Microlenders seeking loans and/or grants will have to submit applications that include specified information, certifications, and agreements to the Agency. This information will be used to determine applicant eligibility and to ensure that funds are used for authorized purposes. Applications for continued participation in RMAP, during years 2 and 3, will include primarily any needed updates to the information submitted with the initial application.

Description of Respondents: Business or other for-profit; Not-for-profit Institutions; State, Local or Tribal governments.

Number of Respondents: 40.

Frequency of Responses: Reporting: Quarterly, Annually.

Total Burden Hours: 1,907.

Rural Business-Cooperative Service

Title: Advanced Biofuel Payment Program.

OMB Control Number: 0570-0063.

Summary of Collection: This Program, authorized under section 9005 of title IX of the Food, Conservation, and Energy Act of 2008 (2008 Farm Bill), authorizes the Rural Business-Cooperative Service (RBCS or the Agency), a Rural Development (RD) agency of the United States Department of Agriculture, to enter into contracts to make payments to eligible entities to support and ensure an expanding production of advanced biofuels. Entities eligible to receive payments under the Program are producers of advanced biofuels that meet all of the requirements of the Program. Such entities can be an individual or legal entity, including a corporation, company, foundation, association, labor organization, firm, partnership, society, joint stock company, group of organizations, or non-profit that produces an advanced biofuel and that sells the advanced biofuel on the commercial market. The underlying regulation for this program is 7 CFR 4288, subpart B.

Need and Use of the Information: Advanced biofuel producers seeking to participate in the Program must enroll in the Program by submitting an application (Form RD 4288-1), which includes specific information about the producer and the producer's advanced biofuel biorefineries. This information will be used to determine whether the advanced biofuel producer is eligible to participate in the Program and whether the advanced biofuel being produced is eligible for payments under the Program. Form RD 4288-1 will also be used by the Agency to sign-up advance biofuel producers in subsequent fiscal years (FY) and to obtain information to help determine payment rates.

Once an advanced biofuel producer has been approved for participation in the Program, the producer and the Agency will enter into a contract (Form RD 4288-2). Once the contract is signed, the advanced biofuel producer will submit payment requests (Form RD-4288-3), preferably on a quarterly basis. The information in the payment request forms will be used by the Agency to determine payments to the advanced biofuel producers.

Description of Respondents: Business or other for-profit; Individuals.

Number of Respondents: 92.

Frequency of Responses: Reporting: Quarterly, Annually.

Total Burden Hours: 993.

Rural Business-Cooperative Service

Title: Guidelines for Designating Biobased Products for Federal Procurement.

OMB Control Number: 0570-0073.

Summary of Collection: Section 9002 of the Farm Security and Rural Investment Act (FSRIA) of 2002, as amended by the Food, Conservation, and Energy Act (FCEA) of 2008, the Agricultural Act of 2014, and the Agriculture Improvement Act of 2018 [7 U.S.C. 8102] provides for a Federal Preferred Procurement Program under which Federal agencies are required to purchase biobased products, with certain exceptions. Product categories (which are generic groupings of products) are designated by rulemaking for preferred procurement. To qualify product categories for procurement under this Program, the statute requires that the Secretary of Agriculture consider information on the availability of biobased products, the economic and technological feasibility of using such products, and the costs of using such products.

Need and Use of the Information: The USDA BioPreferred Program provides that qualifying biobased products that fall under product categories (generic groups of biobased products) that have been designated for preferred procurement by rule making are required to be purchased by Federal agencies in lieu of their fossil energy-based counterparts, with certain limited exceptions. Further, USDA is required by section 9002 of the Farm Security and Rural Investment Act of 2002, as amended by the Food, Conservation, and Energy Act of 2008 and the Agricultural Act of 2014, and the Agricultural Improvement Act of 2018, to provide certain information on qualified biobased products to Federal agencies. To meet these statutory requirements, USDA will gather that information from manufacturers and vendors of biobased products. The information sought by USDA can be transmitted electronically using the website http://www.biopreferred.gov. If for any reason the requested information cannot be electronically transmitted, USDA will provide technical assistance to support the transmission of information to USDA. The information collected will enable USDA to meet statutory information requirements that will then permit USDA to designate product categories for preferred procurement under the BioPreferred Program.

Description of Respondents: Business or other for-profit.

Number of Respondents: 220.

Frequency of Responses: Recordkeeping; Reporting: Other (once).

Total Burden Hours: 8,800.

Levi S. Harrell,
Departmental Information Collection Clearance Officer.

[FR Doc. 2024-17989 Filed 8-12-24; 8:45 am]

BILLING CODE 3410-XY-P